NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 2, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-10-85, 1 item, 1 temporary item), Web site records relating to health care, child services, family programs, housing, recreation, and travel.

2. Department of Commerce, Bureau of Industry and Security, (N1-476-11-1, 47 items, 45 temporary items). Records relating to the Treaty Compliance Division. Included are chronological files, working papers, reference files, determination files, notifications, end-user certificates, support documents, inspection documents, instructional manuals, guidance reports, travel records, Web user manual, assistance documents, and outreach files. Proposed for permanent retention are chemical weapons convention program records and protocol program records.

3. Department of Defense, Defense Contract Management Agency (N1-558-10-2, 7 items, 7 temporary items). Records relating to security, law enforcement, and occupational safety and health. Included are files relating to security inspections, personnel security clearances, emergency planning, criminal investigations, and accident investigations.

4. Department of Homeland Security, Federal Emergency Management Agency (N1-311-12-1, 2 items, 1 temporary item). Administrative, logistical, and routine operational records related to emergency preparedness. Proposed for permanent retention are the historical and program records related to emergency preparedness.

5. Department of Homeland Security, Transportation Security Administration (N1-560-11-6, 5 items, 5 temporary items). Records of indirect air carrier certification applications that include denied, incomplete, active, withdrawn, and revoked applications. They also contain forms, correspondence, memoranda, certifications, notices, reports, and facility assessments.

6. Department of Justice, Office of the Inspector General (N1-60-09-27, 2 items, 1 temporary item). Outputs for an electronic information system used to tracks oversight and review division cases. Proposed for permanent retention are the system master files.

7. Department of Justice, Federal Bureau of Investigation (N1-65-11-36, 1 item, 1 temporary item). Master files of an electronic information system used to track operational information of the backstopping program.

8. Department of Justice, Office of Records Management Policy (N1-60-10-35, 1 item, 1 temporary item). Email of administrative and support staff in leadership offices relating to scheduling, office management, and other administrative matters.

9. Department of Justice, U.S. National Central Bureau of INTERPOL (DAA-0060-2011-20, 2 items, 2 temporary items). Source documents and master files of an electronic information system used to track case files.

10. Department of State, Bureau of Resource Management (N1-59-10-12, 7 items, 6 temporary items). Records include budget and funding related instructions and procedures, master file and outputs of an electronic information system that maintains budget data, and reimbursement and allotment files. Proposed for permanent retention is the Department's annual budget submission.

11. Department of Transportation, Federal Transit Administration (N1-408-11-6, 4 items, 3 temporary items). Records relating to general rulemaking including unselected dockets, denials and petitions, notices of meetings, delegations of authority, organization statements, and other general correspondence located in the Office of the Chief Counsel. Proposed for permanent retention are recordkeeping copies of high level mission-related rulemaking documents that attract the general public or industry attention, have significant impact on mass transit, or record major developments in the history of the agency.

12. Department of Transportation, Federal Transit Administration (N1-408-11-7, 2 items, 1 temporary item). Records containing information on interpretation of transit-related laws and regulations. Proposed for permanent retention are final decisions of enforcement records.

13. Federal Trade Commission, Agency-wide (N1-122-09-1, 21 items, 16 temporary items). Comprehensive schedule covering all aspects of agency work. Records relating to administrative and mission support functions; budget and financial administration; routine health, safety, and security; and project and investigative files lacking long-term value. Proposed for permanent retention are significant project files; documentation of the Commission's establishment, regulations, policy and organization including related deliberations and findings; final issuances; and significant inspector general case files.

14. Peace Corps, Office of Management (N1-490-12-1, 2 items, 2 temporary items). Records of the Office of Administrative Services, including agency copy of controlled substance order forms and controlled substance transaction files that document the ordering, purchasing, and shipping of controlled substances to medical officers in the field.

Dated: February 23, 2012.
Paul M. Wester, Jr.,
Chief Records Officer for the U.S. Government.

[FR Doc. 2012-4891 Filed 2-29-12; 8:45 am]

BILLING CODE 7515-01-P